RAILROAD RETIREMENT BOARD

Sunshine Act Meetings

TIME AND DATE: 10:00 a.m., April 30, 2019.

PLACE: 844 North Rush Street, Chicago, Illinois 60611.

STATUS: Closed.

MATTERS TO BE CONSIDERED: (1) Internal Personnel Matter.

CONTACT PERSON FOR MORE INFORMATION: Stephanie Hillyard, Secretary to the Board, Phone No. 312-751-4920.

Dated: April 19, 2019.
Stephanie Hillyard,
Secretary to the Board.

[FR Doc. 2019-08323 Filed 4-19-19; 4:15 pm]

BILLING CODE 7905-01-P